DEPARTMENT OF ENERGY

Federal Energy Regulatory Commission

[Docket No. RP00-443-000]

Transcontinental Gas Pipe Line Corporation; Notice of Tariff Filing

August 11, 2000.

Take notice that Transcontinental Gas Pipe Line Corporation (Transco) tendered for filing on August 7, 2000, certain revised tariff sheets to its FERC Gas Tariff, Third Revised Volume No. 1. The proposed effective date of such tariff sheets is March 27, 2000, with the exception of First Revised Sheet No. 122H, which has a proposed effective date of April 14, 2000.

Transco states that the purpose of this filing is to comply with the Commission's Regulation of Short-Term Natural Gas Transportation Services and Regulation of Interstate Natural Gas Transportation Services in Docket Nos. RM98-10-000 and RM98-12-000 (Order No. 637). Among other things, the Commission in Order No. 637 revised its regulations regarding releases of capacity for less than one year (short-term releases). The Commission waived the rate ceiling for short-term releases until September 30, 2002, and clarified its posting and bidding requirements for short-term releases.

The changes to the capacity release regulations became effective on March 26, 2000, however the Commission allowed pipelines to remove inconsistent tariff provisions within 180 days of the issuance of Order No. 637. In compliance, Transco is making the following revisions to its tariff sheets. First, Section 3 of Rate Schedules LNG-R, WSS-Open Access-R, FT-R, FTN-R and ESS-R is being changed to state that the maximum rate ceiling does not apply to short-term releases until September 30, 2002. Second, Section 3 of the aforementioned rate schedules are being modified to state that the rates for short-term releases in this time frame are not subject to refund. Third, Section 42 of the General Terms and Conditions is being changed to reflect the Commission's modifications to the posting and bidding requirements for short-term releases of capacity and to incorporate the waiver of the maximum rate ceiling as described above.

Transco states that copies of the instant filing are being mailed to customers, State Commissions, and other interested parties. In accordance with the provisions of Section 154.16 of the Commission's Regulations, copies of this filing are available for public inspection, during regular business hours, in a convenient form and place at Transco's main offices at 2800 Post Oak Boulevard in Houston, Texas.

Any person desiring to be heard or to protest said filing should file a motion to intervene or a protest with the Federal Energy Regulatory Commission, 888 First Street, N.E., Washington, D.C. 20426, in accordance with Sections 385.214 and 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may also be viewed on the web at http://www.ferc.fed.us/online/rims.htm (call 202-208-2222 for assistance).

David P. Boergers,
Secretary.

[FR Doc. 00-20911 Filed 8-16-00; 8:45 am]

BILLING CODE 6717-01-M